DEPARTMENT OF THE INTERIOR

Fish and Wildlife Service

[FWS-R4-ES-2014-N025; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by August 22, 2014.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Angela Romito, Permit Coordinator).

FOR FURTHER INFORMATION CONTACT: Angela Romito, 10(a)(1)(A) Permit Coordinator, telephone 404-679-7101; facsimile 404-679-7081.

SUPPLEMENTARY INFORMATION:

Introduction

The public is invited to comment on the following applications for permits to conduct certain activities with endangered and threatened species pursuant to section 10(a)(1)(A) of the Endangered Species Act of 1973, as amended (16 U.S.C. 1531 et seq.), and our regulations in the Code of Federal Regulations (CFR) at 50 CFR 17. This notice is provided under section 10(c) of the Act.

Public Comments

If you wish to comment, you may submit comments by any one of the following methods. You may mail comments to the Fish and Wildlife Service's Regional Office (see ADDRESSES section) or send them via electronic mail (email) to: permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Public Availability of Comments

Before including your address, telephone number, email address, or other personal identifying information in your comments, you should be aware that your entire comment—including your personal identifying information—may be made publicly available at any time. While you can ask us in your comments to withhold your personal identifying information from public review, we cannot guarantee that we will be able to do so.

Permit Applications

Permit Application Number: T35313B

Applicant: Dr. Emma Willcox, Knoxville, Tennessee

The applicant requests authorization to take (acoustical monitoring, enter hibernacula or maternity roost caves, salvage dead bats, capture with mist nets or harp traps, handle, identify, collect hair samples, band, attach transmitters, light-tag, wing-punch, pit-tag, and selectively euthanize for white nose syndrome testing) Indiana bats (Myotis sodalis), gray bats (Myotis grisescens), and northern long-eared bats (Myotis septentrionalis) while conducting studies in Tennessee, Kentucky, and North Carolina (1) to assess effects of prescribed fire and canopy reduction treatments on roosting and foraging habitat, and (2) to study roosting and foraging ecology of Indiana bats in an agriculture landscape.

Permit Application Number: TE35319B

Applicant: Dr. Trevor Zachariah, Brevard Zoo, Melbourne, Florida

The applicant requests authorization to hold for veterinary treatment, to retain un-releasable specimens, or to euthanize specimens of Kemp's ridley (Lepidochelys kempii), hawksbill (Eretmochelys imbricata), leatherback (Dermochelys coriacea), green (Chelonia mydas), and loggerhead (Caretta caretta) sea turtles. Treatment facilities are at the Brevard Zoo in Melbourne, Florida, but turtles may be accepted from authorized sources throughout Florida and other southeastern states.

Permit Application Number: TE051552-6

Applicant: Dr. Peter Frederick, University of Florida, Gainesville, Florida

The applicant requests authorization to renew his permit to take (capture, weigh, measure, examine, collect blood and tissues, sex, band, attach scientific devices, and salvage) American wood storks (Mycteria Americana) in Dade, Broward, Monroe, Martin, Lee, and Palm Beach Counties in Florida and in Jenkins County, Georgia.

Permit Application Number: TE077175-3

Applicant: Dr. Troy Best, Auburn University, Auburn, Alabama

The applicant requests authorization to renew his permit to take (acoustical monitoring, enter hibernacula or maternity roost caves, salvage dead bats, capture with mist nets or harp traps, handle, identify, collect hair samples, band, transmitter, light-tag, wing-punch, and selectively euthanize for white nose syndrome testing) Indiana bats (Myotis sodalis), and gray bats (Myotis grisescens) in Alabama while conducting presence/absence surveys, studies to document habitat use, and population monitoring.

Permit Application Number: TE-21809A-1

Applicant: Monica Folk, Kissimmee, Florida

The applicant requests authorization to renew her permit to take (harass, capture, handle, mark, attach scientific devices, temporarily hold, and release) American wood storks (Mycteria americana), Red cockaded woodpeckers (Picoides borealis), Florida scrub jays (Aphelocoma coerulescens), gopher tortoises (Gopherus polyphemus), eastern indigo snakes (Drymarchon couperi), and reticulated Flatwoods salamanders (Ambystoma cingulatum) throughout the species' ranges in Florida.

Permit Application Number: TE-37219B-0

Applicant: Roger Perry, US Forest Service, Southern Research Station, Hot Springs, Arkansas

The applicant requests authorization to take (acoustical monitoring, enter hibernacula or maternity roost caves, salvage dead bats, capture with mist nets or harp traps, handle, identify, collect hair samples, band, transmitter, light-tag, wing-punch, and selectively euthanize for white nose syndrome testing) Indiana bats (Myotis sodalis), gray bats (Myotis grisescens), and Northern long-eared bats (Myotis septenrionalis) in the Ozark/Ouachita region of Arkansas and Oklahoma while conducting research activities to monitor and evaluate the effects of White Nose Syndrome in bats.

Permit Application Number: TE-034476-3

Applicant: Elizabeth Langston, US Forest Service, Milton, Florida

The applicant requests authorization to renew her permit to take (harass, capture, band, and translocate), red-cockaded woodpeckers (Picoides borealis) for the purposes of banding juveniles and adults and monitoring populations and nest cavities, throughout the species' range in Blackwater River State Forest, Santa Rosa and Okaloosa Counties, Florida.

Permit Application Number: TE-37492B-0

Applicant: Anthony C. Grow, HDR Inc., Millington, Tennessee

The applicant requests authorization for a new permit to take (acoustical monitoring, enter hibernacula or maternity roost caves, salvage dead bats, capture with mist nets or harp traps, handle, identify, collect hair samples, band, transmitter, light-tag, and wing-punch) Indiana bats (Myotis sodalis), in Alabama, Arkansas, Florida, Georgia, Illinois, Indiana, Iowa, Kentucky, Maryland, Michigan, Mississippi, Missouri, New Jersey, New York, North Carolina, Ohio, Oklahoma, Pennsylvania, Tennessee, Vermont, Virginia, West Virginia while conducting presence/absence surveys and telemetry research to document bat movement.

Permit Application Number: TE-008187-1

Applicant: Stephanie Fudge, Environmental Compliance and Consulting, Hartford, Arizona

The applicant requests authorization to renew her permit to take (trap, tag, relocate, and temporarily hold) American burying beetle in Arkansas and Oklahoma for scientific research purposes.

Permit Application Number: TE-819338-1

Applicant: Hanford Farrell, Farrell-Cooper Mining Company, Ft. Smith Arkansas

The applicant requests authorization to renew her permit to take (trap, tag, relocate, and temporarily hold) American burying beetle in Arkansas and Oklahoma for scientific recovery purposes.

Permit Application Number: TE-070796-6

Applicant: Joel Beverly, Apogee Environmental & Archeological Inc., Whitesburg, Kentucky

The applicant requests authorization to renew his permit to take (acoustical monitoring, enter hibernacula or maternity roost caves, salvage dead bats, capture with mist nets or harp traps, handle, identify, collect hair samples, band, transmitter, light-tag, wing-punch, and selectively euthanize for white nose syndrome testing) Indiana bats (Myotis sodalis), gray bats (Myotis grisescens) and Virginia big-eared bats (Corynorhinus townsendii virginianus) throughout the species' respective ranges which cover the eastern half of the United States. The applicant also requests authorization to amend his permit to add Northern long-eared bat (Myotis septentrionalis) and seven subpermittees (Robert Oney, Dan Lerner, Ashleigh Green, David La Marche, Hans Otto, Curtis Hart, and Dylan Brooks).

Permit Application Number: TE-212106-1

Applicant: Richard K. Kessler, Campbellsville University, Campbellsville, Kentucky

The applicant requests authorization to renew his permit to take (capture, retain temporarily, and release) ringpink mussels (Obovaria retusa), fanshell mussels (Cyprogenia stegaria), pocketbook mussels (Potamilus capax), clubshell mussels (Pleurobema clava), rough pigtoe mussels (Pleurobema plenum), snuffbox mussels (Epioblasma triquetra), and rabbit's-foot mussels (Quadrula cylindrica cylindrica) throughout the species' ranges in the state of Kentucky.

Permit Application Number: TE-009638-10

Applicant: Timothy Compton, Appalachian Technical Services, Wise, Virginia

The applicant requests authorization to renew his permit to take (capture, handle, radio-tag, and release) Indiana bats (Myotis sodalis), gray bats (Myotis grisescens), Virginia big-eared bats (Corynorhinus townsendii virginianus), blackside dace (Phoxinus cumberlandensis), yellowfin madtom (Noturus flavipinnis), slender chub (Erimystax cahni), fanshell (Cyprogenia stegaria), dromedary pearlymussel (Dromus dromas), Cumberlandian combshell (Epioblasma brevidens), Appalachian monkeyface (Quadrula sparsa), Cumberland monkeyface (Quadrula intermedia), pink mucket (Lampsilis abrupta), rough pigtoe (Pleurobema plenum), littlewing pearlymussel (Pegias fabula), birdwing pearlymussel (Conradilla caelata), oyster mussel (Epioblasma capsaeformis), fine-rayed pigtoe (Fusconia cor), shiny pigtoe (Fusconia cuneolus), cracking pearlymussel (Hemistena lata), rough rabbitsfoot (Quadrula cylindrica strigillata), purple bean (Villosa perpurpurea), and Cumberland bean (Villosa trabilis) throughout the species' ranges in Georgia, North Carolina, Alabama, Mississippi, Tennessee, Kentucky, Indiana, Ohio, Pennsylvania, Virginia, and West Virginia. The applicant also requests to amend his permit to add James E. Breeding as a subpermittee and to remove Quinten D. Tolliver.

Permit Application Number: TE-37490B-0

Applicant: Melissa Littrell, Lexington, Kentucky

The applicant requests authorization to take (capture, handle, radio-tag, and release) Indiana bats (Myotis sodalis), gray bats (Myotis grisescens), Virginia big-eared bats (Corynorhinus townsendii virginianus), Northern long-eared bats (Myotis septenrionalis), and the following mussels: fanshell (Cyprogenia stegaria), Cumberland bean (Villosa trabalis), tubercled blossom (Epioblasma torulosa torulosa), purple cat's paw (Epioblasma obliquata obliquata), rough pigtoe (Pleurobema plenum), ringpink mussel (Obovaria retusa), fat pocketbook mussel (Potamilus capax), clubshell mussel (Pleurobema clava), Cumberlandian combshell (Epioblasma brevidens), Cumberland elktoe (Alasmidonta atropurpurea), winged mapleleaf (Quadrula fragosa), pink mucket (Lampsilis abrupta), cracking pearlymussel (Hemistena lata), dromedary pearlymussel (Dromus dromas), little-wing pearlymussel (Pegias fabula), orangefoot pimpleback (Plethobasus cooperianus), Northern riffleshell (Epioblasma torulosa rangiana), tan riffleshell (Epioblasma florentina walker), and white wartyback pearlymussel (Plethobasus cicatricosus), for the purposes of conducting presence/absence surveys and studies to document habitat use. The applicant would be authorized to work with listed mussels and the Virginia big-eared bat throughout their ranges in the State of Kentucky. The applicant requests to be authorized to work with gray bats, Indiana bats, and Northern long-eared bats throughout the species' ranges.

Permit Application Number: TE-022689-4

Applicant: Dr. Philip Sheridan, Meadowview Biological, Woodford Virginia

The applicant requests authorization to renew his permit to sell via interstate commerce artificially propagated specimens of the green pitcher-plant (Sarracenia oreophila), Alabama canebrake pitcher-plant (Sarracenia rubra ssp. alabamensis), and the mountain sweet pitcher-plant (Sarracenia rubra ssp. jonesii) for the purposes of outreach and education.

Permit Application Number: TE-070584-11

Applicant: Mark Gumbert, Copperhead Environmental Consulting, Paint Lick, Kentucky

The applicant requests authorization to renew and amend his permit to take (capture, handle, radio-tag, and release) Indiana bats (Myotis sodalis), gray bats (Myotis grisescens), Virginia big-eared bats (Corynorhinus townsendii virginianus), Ozark big-eared bats (Corynorhinus townsendii ingens), and Northern longed-eared bats (Myotis septentrionalis) for the purposes of conducting presence/absence surveys, migration surveys, and telemetry surveys throughout the species' ranges.

Permit Application Number: TE-022468-4

Applicant: Jessie Schillaci, Fort Bragg Endangered Species Branch, Fort Bragg, North Carolina

The applicant requests authorization to renew her permit to take (harass) endangered red-cockaded woodpeckers (Picoides borealis) for the purposes of constructing and monitoring artificial nest cavities and restrictors; for capturing, banding, and translocating birds; and for monitoring populations and nest cavities in the areas of Fort Bragg and Camp Mackall, and on private and State lands throughout the Sandhills Region of North Carolina.

Permit Application Number: TE-37498B-0

Applicant: Rena Borkhataria, Everglades Research and Education Center, Belle Glade, Florida

The applicant requests authorization to take (capture, handle, monitor, and salvage) wood storks (Mycteria americana) for the purpose of investigating demographic parameters and habitat availability in the States of Florida, Georgia, North Carolina, and South Carolina.

Permit Application Number: TE-37886B-0

Applicant: Jeff Duke, Civil & Environmental Consultants Inc., Franklin, Tennessee

The applicant requests authorization to take (capture, identify, enumerate, determine sex, and relocate) the Nashville Crayfish (Orconectes shoupi) for the purpose of minimizing impacts of construction activities associated with stream crossings in the Mill Creek Watershed, Davidson and Williamson Counties, Tennessee.

Permit Application Number: TE-225877-1

Applicant: Daniel Maloney, Jacksonville Zoological Society and Gardens, Jacksonville, Florida

The applicant requests authorization to renew his permit to take (possess) Key deer (Odocoileus virginianus clavium) for the purposes of conducting rehabilitation and educational outreach activities at the Jacksonville Zoo in Duval County, Florida. The applicant also requests to amend his permit to reflect changes in personnel at the Jacksonville Zoo (i.e., add Daniel Maloney as the Principal Officer and Tracey Fenn and Dr. Adrienne Atkins as subpermittees).

Permit Application Number: TE-125620-3

Applicant: Brian Roh, Burns and McDonnell, Kansas City, Missouri

The applicant requests authorization to renew his permit to take (trap and release) the American burying beetle (Nicrophorus americanus) while conducting presence and absence surveys in Crawford, Sebastian, Franklin, Logan, and Scott Counties in Arkansas and Oklahoma.

Permit Application Number: TE-171516-3

Applicant: Mark Gumbert, Copperhead Consulting, Paint Lick, Kentucky

The applicant requests authorization to renew his permit to take (capture, identify, and release) the blackside dace (Phoxinus cumberlandensis) and to take (capture, release, track/radio-telemetry, wade in habitat) the following federally listed mussels: Cumberland elktoe (Alasmidonta atropurpurea), tan riffleshell (Epioblasma florentina), white catspaw (Epioblasma obliquata perobliqua), northern riffleshell (Epioblasma torulosa rangiana), scaleshell (Leptodea leptodon), fat pocketbook (Potamilus capax), rough rabbitsfoot (Quadrula cylindrical strigillata), Appalachian monkeyface (Quadrula sparsa), purple bean (Villosa perpurpurea), catspaw (Epioblasma obliquata obliquata), clubshell (Pleurobema clava), cracking pearlymussel (Hemistena lata), Cumberland bean (Villosa trabalis), Cumberlandian combshell (Epioblasma brevidens), fanshell (Cyprogenia stegaria), fine-rayed pigtoe (Fusconaia cuneolus), littlewing pearlymussel (Pegias fabula), orangefoot pimpleback (Plethobasus cooperianus), oyster mussel (Epioblasma capsaeformis), pink mucket pearlymussel (Lampsilis abrupta), ring pink mussel (Obovaria retusa), rough pigtoe (Pleurobema plenum), shiny pigtoe (Fusconaia coredgariana), southern clubshell (Pleurobema decisum), tubercled blossom (Epioblasma torulosa torulosa), turgid blossom pearlymussel (Epioblasma turgidula), white wartyback pearlymussel (Plethobasus cicatricosus), and yellow blossom pearlymussel (Epioblasma florentina florentina), for the purpose of conducting presence/absence surveys throughout the species' ranges in Kentucky, Tennessee, Arkansas, Georgia, Ohio, Illinois, Indiana, and Missouri. The applicant also requests to amend his permit to add mussel species (fluted kidneyshell (Ptychobranchus subtentum), sheepnose mussel (Plethobasus cyphyus), snuffbox mussel (Epioblasma triquetra), dromedary pearlymussel (Dromus dromas), slabside pearlymussel (Pleuronaia dolabelloides), rabbitsfoot (Quadrula cylindrica cylindrica), and spectaclecase (Cumberlandia monodonta)), a new subpermittee (Gregg Shirk), and the method of mark-recapture for the blackside dace.

Permit Application Number: TE-37887B-0

Applicant: Kevin Mills, South Carolina Aquarium, Charleston, South Carolina

The applicant requests authorization to hold for veterinary treatment, to retain unreleasable specimens, or to euthanize specimens of Kemp's ridley (Lepidochelys kempii), hawksbill (Eretmochelys imbricata), green (Chelonia mydas), leatherback (Dermochelys coriacea), green (Chelonia mydas), and loggerhead (Caretta caretta) sea turtles. Treatment facilities are at the South Carolina Aquarium in Charleston, South Carolina, but turtles may be accepted from authorized sources throughout South Carolina and other southeastern States.

Dated: July 15, 2014.
Mike Oetker,
Acting Regional Director.

[FR Doc. 2014-17340 Filed 7-22-14; 8:45 am]

BILLING CODE 4310-55-P